DEPARTMENT OF AGRICULTURE

Rural Utilities Service

North Carolina Electric Membership Corporation; Notice of Availability of an Environmental Assessment

AGENCY: Rural Utilities Service, USDA.

ACTION: Notice of availability of an environmental assessment.

SUMMARY: Notice is hereby given that the Rural Utilities Service (RUS), an agency delivering the U.S. Department of Agriculture's Rural Development Utilities Programs, is issuing an environmental assessment with respect to the environmental impacts related to the construction of a 336 megawatt (MW) simple-cycle electric generation facility in Anson County, North Carolina, and a 280 MW simple-cycle electric generation facility and a 7.8-mile 230 kV transmission line in Richmond County, North Carolina. RUS may provide financing assistance to North Carolina Electric Membership Corporation for the project.

FOR FURTHER INFORMATION CONTACT: Lawrence Wolfe, Rural Utilities Service, Engineering and Environmental Staff, Stop 1571, 1400 Independence Avenue, SW., Washington, DC 20250-1571, telephone: (202) 720-9053. Mr. Wolfe's e-mail address is larry.wolfe@usda.gov. Information is also available from June Small of North Carolina Electric Membership Corporation. Ms. Small may be contacted by telephone at (919) 872-0800. Ms. Small's e-mail address is june.small@ncemcs.com.

SUPPLEMENTARY INFORMATION: North Carolina Electric Membership Corporation's proposed electric generation project will involve the construction and operation of a 336 MW simple-cycle electric generation facility at a site located approximately 4 miles east of Lilesville, just to the north of State Route 1745 (Blewett Falls Road) and south of McCoy Creek in Anson County, North Carolina. The site is 178 acres. Approximately 20 acres of the site will be needed for the generation facility. The facility will be made up of 6 Pratt and Whitney FT-8 combustion turbine units. (Each unit is comprised of 2 turbines.) This facility will require 12 exhaust stacks approximately 60 feet tall. This project will also involve the construction of a 280 MW electric generation facility at a site approximately 2.54 miles southwest of Hamlet west of Airport Road and south of Marks Creek in Richmond County, North Carolina. The site is 258 acres of which approximately 15 to 20 acres will be needed for the generation facility. The facility will be made up of 5 Pratt and Whitney FT-8 combustion turbine units. This facility will require 10 exhaust stacks approximately 60 feet tall. This facility will require the construction of 7.8 miles of 230 kV transmission line between the Rockingham Substation and the Richmond Substation. The transmission line will be constructed and operated by Progress Energy. North Carolina Electric Membership Corporation will incur the cost of the project and finance its cost through an RUS guarantee. Specific information on the facilities to be constructed and their locations are provided in the environmental assessment.

North Carolina Electric Membership Corporation submitted an environmental analysis to RUS which describes the project and assesses its potential environmental impacts. RUS has conducted an independent evaluation of the environmental analysis and believes that it accurately assesses the potential impacts of the proposed project. This environmental analysis will serve as RUS' environmental assessment of the project.

The environmental assessment can be reviewed at North Carolina Electric Membership Corporation's headquarters located at 3400 Sumner Boulevard, Raleigh, North Carolina, and at the headquarters of RUS at the address provided above. The environmental assessment is also available for review at the Hampton B. Allen Library, 120 South Greene Street, Wadesboro North Carolina, 28170, phone: (704) 694-5177; Pee Dee Electric Membership Corporation, Highway 52 South Wadesboro, North Carolina 28170, phone (704) 694-2114; Leath Memorial Library, 412 East Franklin Street, Rockingham, North Carolina 28379, phone: (910) 895-6337; Person County Library, 319 South Main Street, Roxboro, North Carolina 27573, phone: (336) 597-7881; Office of the County Manager, 304 South Morgan Street, Room 212, Roxboro, North Carolina 27573, phone (336) 597-1720; Holly Springs Town Hall, 128 South Main Street, Holly Springs, North Carolina 27540; Fuquay-Varina Library, 133 South Fuquay Avenue, Fuquay-Varina, North Carolina 27526, phone (919) 557-2788; Eva H. Perry Library, 2100 Shepherd's Vineyard Drive, Apex, North Carolina 27502, phone (919) 387-2100; and the Office of the Town Clerk, Holly Springs Town Hall, 128 South Main Street, Holly Springs, North Carolina 27540.

Questions and comments should be sent to RUS at the address provided. RUS will accept questions and comments on the environmental assessment for 30 days from the date of publication of this notice.

Any final action by RUS related to the proposed project will be subject to, and contingent upon, compliance with all relevant Federal environmental laws and regulations and completion of environmental review procedures as prescribed by the 7 CFR Part 1794, Environmental Policies and Procedures.

Dated: December 14, 2004.
Glendon D. Deal,
Director, Engineering and Environmental Staff, Water and Environmental Program, Rural Utilities Service.

[FR Doc. 04-27760 Filed 12-17-04; 8:45 am]

BILLING CODE 3410-15-P